DEPARTMENT OF TRANSPORTATION

Federal Aviation Administration

14 CFR Part 39

[Docket No. FAA-2010-0960; Directorate Identifier 98-ANE-09-AD]

RIN 2120-AA64

Airworthiness Directives; Rolls-Royce plc RB211-Trent 768, 772, and 772B Turbofan Engines

AGENCY: Federal Aviation Administration (FAA), DOT.

ACTION: Notice of proposed rulemaking (NPRM); rescission.

SUMMARY: We propose to rescind an airworthiness directive (AD) for the products listed above. The existing AD, AD 98-09-27, resulted from aircraft certification testing which revealed that stresses on the thrust reverser hinge were higher than had been anticipated during engine certification, and the United Kingdom Civil Aviation Authority, issuing AD 008-03-97.

Since we issued AD 98-09-27, we discovered that its requirements were duplicated in airplane-level AD 2001-09-14, issued by the FAA Transport Airplane Directorate. This proposal to rescind the engine-level AD allows the public the opportunity to comment on the FAA's determination of the duplication of requirements in another AD, before we rescind the engine-level AD.

DATES: We must receive comments on this proposed AD by December 30, 2010.

ADDRESSES: You may send comments by any of the following methods:

• Federal eRulemaking Portal: Go to http://www.regulations.gov, and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone (800) 647-5527) is the same as the Mail address provided in the ADDRESSES section. Comments will be available in the AD docket shortly after receipt.

FOR FURTHER INFORMATION CONTACT: Alan Strom, Aerospace Engineer, Engine Certification Office, FAA, Engine & Propeller Directorate, 12 New England Executive Park, Burlington, MA 01803; e-mail: alan.strom@faa.gov; telephone (781) 238-7143; fax (781) 238-7199.

SUPPLEMENTARY INFORMATION:

Comments Invited

We invite you to send any written relevant data, views, or arguments about this proposed AD rescission. Send your comments to an address listed under the ADDRESSES section. Include “Docket No. FAA-2010-0960; Directorate Identifier 98-ANE-09-AD” at the beginning of your comments. We specifically invite comments on the overall regulatory, economic, environmental, and energy aspects of this proposed AD rescission. We will consider all comments received by the closing date and may amend this proposed AD rescission based on those comments.

We will post all comments we receive, without change, to http://www.regulations.gov, including any personal information you provide. We will also post a report summarizing each substantive verbal contact with FAA personnel concerning this proposed AD rescission. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

On April 23, 1998, the FAA Engine & Propeller Directorate issued engine AD 98-09-27 (63 FR 24911, May 6, 1998). On April 30, 2001, the FAA Transport Airplane Directorate issued airplane AD 2001-09-14 (66 FR 23838, May 10, 2001). Those ADs both require the same initial and repetitive visual inspections of Rolls-Royce plc RB211-Trent 768 and 772 series turbofan engine thrust reverser hinge lugs and attachment ribs for cracks, and, if necessary, removal from service and replacement with serviceable parts.

Since we issued engine AD 98-09-27 and airplane AD 2001-09-14, we determined that duplicate ADs to address the same unsafe condition were unnecessary.

FAA's Determination and Requirements of This Proposed AD Rescission

We are proposing this AD rescission of AD 98-09-27 because we evaluated all information and determined that two FAA ADs with the same requirements are not necessary.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD rescission would not have federalism implications under Executive Order 13132. This proposed AD rescission would not have a substantial direct effect on the States, on the relationship between the national Government and the States, or on the distribution of power and responsibilities among the various levels of government.

For the reasons discussed above, I certify this proposed rescission of a regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD rescission and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by rescinding airworthiness directive (AD) 98-09-27, Amendment 39-10508 (63 FR 24911, May 6, 1998):

Rolls-Royce plc: Docket No. FAA-2010-0960; Directorate Identifier 98-ANE-09-AD.

Comments Due Date

(a) We must receive comments by December 30, 2010.

Affected ADs

(b) This AD rescinds AD 98-09-27.

Applicability

(c) This AD applies to Rolls-Royce plc RB211-Trent 768, 772, and 772B turbofan engines. These engines are installed on, but not limited to, Airbus A330-341 and A330-342 series airplanes.

Issued in Burlington, Massachusetts, on November 5, 2010.
Peter A. White,
Assistant Manager, Engine and Propeller Directorate, Aircraft Certification Service.

[FR Doc. 2010-28583 Filed 11-12-10; 8:45 am]

BILLING CODE 4910-13-P